DEPARTMENT OF ENERGY

Federal Energy Regulatory Commission

Notice of Application Tendered for Filing with the Commission, Soliciting Additional Studies Requests, Establishing Procedural Schedule for Licensing, and a Deadline for Submission of Final Amendments

February 13, 2003.

Take notice that the following hydroelectric application has been filed with the Commission and is available for public inspection.

a. Type of Application: Original Major License, constructed project.

b. Project No.: 11810-004.

c. Date Filed: January 30, 2003.

d. Applicant: City of Augusta.

e. Name of Project: Augusta Canal Project.

f. Location: Adjacent to the Savannah River, in Richmond County, Georgia, near the town of Augusta, Georgia. The project does not occupy Federal lands.

g. Filed Pursuant to: Federal Power Act 16 U.S.C. 791 (a)-825(r).

h. Applicant: Max Hicks, Director, Utilities Department, 360 Bay Street, Suite 180, Augusta, Georgia 30901, (706) 312-4121.

i. FERC Contact: Monte TerHaar, (202)-502-6035 or monte.terhaar@ferc.gov.

j. Cooperating agencies: We are asking Federal, state, local, and tribal agencies with jurisdiction and/or special expertise with respect to environmental issues to cooperate with us in the preparation of the environmental document. Agencies who would like to request cooperation status should follow the instruction for filing comments described in item l below.

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant. Parties who would like to request additional scientific studies should follow the instruction for filing comments described in item l below.

l. Deadline for filing comments on the application: 60 days from date of this notice.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing.See 18 CFR 385.2001(a)(1)(iii) and the instructions on the Commission's Web site ( http://www.ferc.gov ) under the “e-Filing” link. After logging into the e-Filing system, select “Comment on Filing” from the Filing Type Selection screen and continue with the filing process.”

m. This application is not ready for environmental analysis at this time.

n. The proposed project description: The City of Augusta does not propose to construct hydroelectric generation facilities and the project would produce no power. Augusta is proposing to license parts of the Augusta Canal system which pass flows for use by three existing hydroelectric projects located in the Augusta Canal. These projects are the 1.2 megawatt (MW) Enterprise Project (No. 2935), the 2.475 MW Sibley Mill Project (No. 5044), and the 2.05 MW King Mill Project (No. 9988). The proposed project would consist of the following: (1) The 1,666-foot-long stone-masonry Augusta Diversion Dam; (2) the 2,250-foot-long Savannah River impoundment between Steven's Creek Dam and the Augusta Diversion Dam; and (3) the first level of the Augusta Canal, which extends about 7 miles between the Augusta Diversion Dam and the Thirteenth Street gates.

o. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

p. With this notice, we are initiating consultation with the Georgia State Historic Preservation Officer as required by § 106, National Historic Preservation Act, and the regulations of the Advisory Council on Historic Preservation, 36 CFR, part 800.

q. Procedural schedule: At this time we do not anticipate the need for preparing a draft EA. We intend to prepare one, multi-project environmental document which will include the Augusta Canal Project (P-11810), the Enterprise Project (P-2935), and the Sibley Mill Project (P-5044). The EA will include our recommendations for operating procedures and environmental enhancement measures that should be part of any license issued by the Commission. Recipients will have 60 days to provide the Commission with any written comments on the EA. All comments filed with the Commission will be considered in the Order taking final action on the license applications. However, should substantive comments requiring re-analysis be received on the NEPA document, we would consider preparing a subsequent NEPA document.

The application will be processed according to the following Hydro Licensing Schedule. Revisions to the schedule may be made as appropriate.

Scoping Document 1—March 2003.

Comments on Scoping Document 1—May 2003.

Issue acceptance letter/request additional information—May 2003.

Additional Information Due—July 2003.

Notice of ready for environmental analysis/Notice soliciting final terms and conditions—July 2003.

Deadline for Agency Recommendations—September 2003.

Notice of the availability of the EA—November 2003.

Public Comments on EA due—January 2003.

Ready for Commission's decision on the application—March 2004

r. Final amendments to the application must be filed with the Commission no later than 30 days from the issuance date of the notice of ready for environmental analysis.

Magalie R Salas,
Secretary.

[FR Doc. 03-4118 Filed 2-19-03; 8:45 am]

BILLING CODE 6717-01-P